DEPARTMENT OF HEALTH AND HUMAN SERVICES

Administration for Children and Families

Health Resources and Services Administration

Advisory Committee on the Maternal, Infant and Early Childhood Home Visiting Program Evaluation

AGENCY: Administration for Children and Families (ACF), HHS; Health Resources and Services Administration (HRSA), HHS.

ACTION: Notice to announce the renewal of the Advisory Committee on the Maternal, Infant and Early Childhood Home Visiting Program Evaluation.

Authority: Sec. 511(g)(1) of Title V of the Social Security Act (42 U.S.C. 711, et seq.). The Committee is governed by provisions of Public Law 92-463, as amended, (5 U.S.C. App. 2), which sets forth standards for the formation and use of advisory committees.

SUMMARY: ACF and HRSA announce the renewal of the Advisory Committee on the Maternal, Infant and Early Childhood Home Visiting Program Evaluation to provide advice to the Secretary of Health and Human Services (“the Secretary”) on the design, plan, progress, and findings of the evaluation required under the Act.

FOR FURTHER INFORMATION CONTACT: T'Pring Westbrook, Administration for Children and Families; tpring.westbrook@acf.hhs.gov.

SUPPLEMENTARY INFORMATION: Sec. 511(g)(1) of Title V of the Social Security Act mandates an Advisory Committee to review, and make recommendations on, the design and plan for the evaluation required under the Act. To comply with the authorizing directive and guidelines under the Federal Advisory Committee Act (FACA), a charter has been filed with the Committee Management Secretariat in the General Services Administration (GSA), the appropriate committees in the Senate and U.S. House of Representatives, and the Library of Congress to establish the Advisory Board as a non-discretionary federal advisory committee. The charter was filed on January 27, 2015.

Objectives and Scope of Activitie

The purpose of the Committee is to provide advice and make recommendations to the Secretary of Health and Human Services, through the Assistant Secretary, ACF, and the Administrator, HRSA, with respect to the design, plan, progress, and results of the evaluation.

Membership and Designation

The Committee shall consist of up to 25 members appointed by the Secretary. Members shall be experts in the areas of program evaluation and research, education, and early childhood development. Members shall be appointed as Special Government Employees. The committee shall also include ex-officio members representing ACF, HRSA, and other agencies of the federal government designated by the Secretary as ex-officio members. The ACF Assistant Secretary and HRSA Administrator each shall recommend nominees for Co-Chairs of the Committee.

Members shall be invited to a 3-year term; such terms are contingent upon the renewal of the Committee by appropriate action prior to its termination.

Administrative Management and Support

Coordination, management, and operational services shall be provided by ACF, with assistance from HRSA.

A copy of the Committee charter can be obtained from the designated contact or by accessing the FACA database that is maintained by the GSA Committee Management Secretariat. The Web site for the FACA database is http://fido.gov/facadatabase/.

Dated: March 25, 2015.
Mary K. Wakefield,
Administrator, HRSA.
Mark H. Greenberg,
Acting Assistant Secretary, ACF.

[FR Doc. 2015-07978 Filed 4-6-15; 8:45 am]

BILLING CODE CODE 4184-01-P